DEPARTMENT OF HEALTH AND HUMAN SERVICES

Centers for Disease Control and Prevention

[Docket Number NIOSH-033]

Issuance of Final Guidance Publication

AGENCY: National Institute for Occupational Safety and Health (NIOSH) of the Centers for Disease Control and Prevention (CDC), Department of Health and Human Services (HHS).

ACTION: Notice of issuance of final guidance publication.

SUMMARY: The National Institute for Occupational Safety and Health of the Centers for Disease Control and Prevention (CDC) announces the availability of the following publication: NIOSH Current Intelligence Bulletin 63: Occupational Exposure to Titanium Dioxide.

ADDRESSES: This document may be obtained by the following methods:

Mail: NIOSH, Robert A. Taft Laboratories, MS-C19, 4676 Columbia Parkway, Cincinnati, OH 45226.

E-mail: pubstaft@cdc.gov.

Web site: http://wwwn.cdc.gov/pubs/niosh.aspx.

Facsimile: (513) 533-8285.

Telephone: (513) 533-8471.

FOR FURTHER INFORMATION CONTACT: Faye Rice, NIOSH, Robert A. Taft Laboratories, MS-C32, 4676 Columbia Parkway, Cincinnati, OH 45226, telephone (513) 533-8335.

Dated: April 11, 2011.
John M. Howard,
Director, National Institute for Occupational Safety and Health, Centers for Disease Control and Prevention.

[FR Doc. 2011-9426 Filed 4-19-11; 8:45 am]

BILLING CODE 4163-19-P